DEPARTMENT OF ENERGY

Bonneville Power Administration

Umatilla Generating Project

AGENCY: Bonneville Power Administration (BPA), Department of Energy (DOE).

ACTION: Notice of intent to prepare an Environmental Impact Statement (EIS).

SUMMARY: This notice announces BPA's intention to prepare an EIS, under the National Environmental Policy Act (NEPA), on a proposed electrical interconnection requested by Umatilla Generating Company, L.P., to integrate electrical power from the Umatilla Generating Project into the Federal transmission grid. BPA proposes to execute an agreement with Umatilla Generating Company L.P., to provide them with an interconnection.

DATES: BPA has established a 45-day scoping period during which affected landowners, concerned citizens, special interest groups, local governments, and any other interested parties are invited to comment on the scope of the proposed EIS. Written comments are due to the address below no later than February 22, 2001. Comments may also be made at an EIS scoping open house meeting to be held on January 30, 2001.

ADDRESSES: To comment, telephone toll-free 1-800-622-4519; send an e-mail to the BPA Internet address comment@bpa.gov; or mail comments to Communications, Bonneville Power Administration—KC-7, P.O. Box 12999, Portland, Oregon, 97212. To be placed on the project mail list, call 1-800-622-4520.

An EIS open house will be held on January 30, 2001, 7:00 p.m. to 9:00 p.m., at Hermiston High School, 600 S. First Street, Hermiston, Oregon. At this informal scoping meeting, BPA staff will answer questions and accept oral and written comments, and representatives of BPA and the Umatilla Generating Company, L.P., will be available to discuss the proposed project and the topics to be addressed in the EIS. Information on the proposed project will be available for review.

Scoping will help BPA ensure that a full range of issues related to this proposal is addressed in the EIS, and also will identify significant or potentially significant impacts that may result from the proposed project. When completed, the Draft EIS will be circulated for review and comment, and BPA will hold a public comment meeting on the Draft EIS. BPA will consider and respond in the Final EIS to comments received on the Draft EIS.

FOR FURTHER INFORMATION CONTACT: Thomas C. McKinney, Bonneville Power Administration—KEC-4, P.O. Box 3621, Portland, Oregon, 97208-3621; toll-free telephone 1-800-282-3713; direct telephone 503-230-4749; or e-mail tcmckinney@bpa.gov. Additional information can be found at BPA's web site: www.bpa.gov.

SUPPLEMENTARY INFORMATION: The EIS will assess the environmental consequences of the agreement which BPA proposes with Umatilla Generating Company, L.P., and of any modifications to the transmission system needed to provide an electrical connection under the terms of the agreement. In addition to these Federal actions, the EIS will consider the environmental consequences of construction and operation of the Umatilla Generating Project.

The proposed project has several components. They include an electrical connection at BPA's McNary Substation for the Umatilla Generating Company, L.P.; a natural-gas-fired, combined-cycle combustion turbine; electric-power-generation plant (Umatilla Generating Project); a natural-gas pipeline; and new and modified electric-power-transmission lines. All proposed facilities would be located within Umatilla County, Oregon.

The Umatilla Generating Project is proposed by the Umatilla Generating Company, L.P., an independent power producer. They would build and operate the power plant, and would also pay for the construction of approximately three-quarters of a mile of new transmission lines and modification of approximately 11 miles of existing transmission lines owned by the Umatilla Electric Cooperative. The new transmission lines would be owned by the Umatilla Electric Cooperative. PG&E Gas Transmission-Northwest Corporation (GTN) or Cascade Natural Gas would build a natural-gas pipeline up to 5 miles in length to supply fuel to the power plant.

A. Proposed Action. The proposed Umatilla Generating Project would be a combustion turbine/combined-cycle electric power plant with a nominal generating capacity of 550 megawatts. The energy facility site would be located about 4 miles southwest of the city of Hermiston and about one-half mile west of the existing Hermiston Generating Plant.

The proposed Umatilla Generating Project would consist of two essentially identical combustion turbine generators, two heat-recovery steam generators (HRSG) and one steam turbine. The proposed generating project would be fueled by natural gas from the existing GTN pipeline that passes approximately 5 miles south of the energy facility site. Natural gas would be burned in the combustion turbines. Expanding gases from combustion would turn rotors within the turbines that are connected to electric generators. The hot gases exhausted from the combustion turbines would be used to raise steam in the HRSGs. Steam from the HRSGs would be expanded through a steam turbine that drives its own electric generator.

Water would be needed at the facility to generate steam and cool the steam process. Water would be supplied from the Port of Umatilla's regional water supply pipeline that currently extends to the Hermiston Generating Plant. A recirculating cooling system employing mechanically induced draft evaporative cooling towers would be used to minimize water use. Water would be added to the cooling system to compensate for evaporative losses (make-up water) and blowdown. Blowdown is the water bled from the cooling system to limit the build-up of salts. Blowdown would be conveyed by pipeline to Madison Farms, located approximately 3 miles south of the proposed generating project, where it would be applied to crops.

The proposed Umatilla Generating Project would deliver electric power to the regional power grid at BPA's McNary Substation in Umatilla using the Umatilla Electric Cooperative's existing Westland-McNary Transmission Line. A new 230-kilovolt (kV) radial transmission line tap would be constructed to connect the switchyard at the proposed Umatilla Generating Project to the Westland-McNary Transmission Line. Presently, the transmission line consists of one 115-kV circuit and one 230-kV circuit. The existing 115-kV line would be removed and replaced with a 230-kV line. BPA would modify the McNary Substation to accept electric power from the Umatilla Generating Project.

In addition, the section of the 115-kV transmission line between the Umatilla Generating Project and the Hermiston Generating Plant would be reconductored for 230 kV. This portion of the circuit reconductoring would increase the overall efficiency and reliability of the transmission line.

B. Process to Date. BPA is the lead Federal agency for the project EIS. The State of Oregon Energy Facility Siting Council is currently evaluating the Application for a Site Certificate for the Umatilla Generating Project submitted by the Umatilla Generating Company, L.P. Oregon's site evaluation process, like NEPA, provides opportunity for public participation. Umatilla Generating Company, L.P., held a public informational meeting on December 7, 2000. Umatilla Generating Company, L.P., expects to submit an application for Air Contaminant Discharge and Prevention of Significant Deterioration Permit for the proposed project to the Oregon Department of Environmental Quality in January 2001.

C. Alternatives Proposed for Consideration. Alternatives thus far identified for evaluation in the EIS are: (1) The proposed action, and (2) no action. Other alternatives may be identified through the scoping process.

D. Identification of Environmental Issues. BPA intends to prepare an EIS addressing both the Umatilla Generating Project and the associated electric power interconnection facilities. BPA decided to prepare the EIS for two reasons: (1) The Umatilla Generating Project would depend on the modifications at BPA's McNary Substation to connect with BPA's transmission grid, and (2) no other Federal or State agency is currently preparing an EIS on the proposed project. Because no other EIS is being prepared, the scope of BPA's EIS will cover both the interconnection elements and the Umatilla Generating Project.

The principal issues identified thus far for consideration in the Draft EIS with respect to the Umatilla Generating Project are as follows: (1) Air quality impacts, (2) noise impacts from plant operation, (3) aesthetic impacts, (4) socioeconomic impacts created by an influx of construction workers into a sparsely populated area, and (5) impacts on wildlife habitat. The principal issues identified thus far for consideration in the Draft EIS with respect to the electric power transmission facilities are as follows: (1) Impacts of transmission line construction on wetlands and wildlife habitat, (2) aesthetic impacts, and (3) cultural resource impacts.

These issues, together with any additional significant issues identified through the scoping process, will be addressed in the EIS.

Issued in Portland, Oregon, on December 27, 2000.
Stephen J. Wright,
Acting Administrator and Chief Executive Officer.

[FR Doc. 01-442 Filed 1-5-01; 8:45 am]

BILLING CODE 6450-01-U